DEPARTMENT OF COMMERCE

International Trade Administration

[A-570-601]

Tapered Roller Bearings and Parts Thereof, Finished and Unfinished From the People's Republic of China: Rescission, in Part, of Antidumping Duty Administrative Review

AGENCY: Import Administration, International Trade Administration, Department of Commerce.

DATES: Effective Date: June 11, 2013.

FOR FURTHER INFORMATION CONTACT: Blaine Wiltse, AD/CVD Operations, Office 2, Import Administration, International Trade Administration, U.S. Department of Commerce, 14th Street and Constitution Avenue NW, Washington, DC 20230; telephone: (202) 482-6345.

Background

On June 1, 2012, the Department of Commerce (the Department) published a notice of opportunity to request an administrative review of the antidumping duty order on tapered roller bearings and parts thereof, finished and unfinished (TRBs) from the People's Republic of China (PRC) covering the period June 1, 2011, through May 31, 2012.¹ The Department received a timely request for an antidumping duty administrative review from the petitioner, The Timken Company, for the following companies: (1) Changshan Peer Bearing Company (CPZ/SKF); (2) Ningbo General Bearing Co., Ltd. (NGBC); and (3) Shanghai General Bearing—Ningbo Plant (SGBN). The Department also received timely requests for an antidumping duty administrative review from the following interested parties as defined by section 771(9)(A) of the Tariff Act of 1930, as amended (the Act): (1) CPZ/SKF; (2) Dana Heavy Axle S.A. de C.V. (Dana Heavy Axle); (3) Xinchang Kaiyuan Automotive Bearing Co., Ltd. (Kaiyuan); (4) Zhejiang Sihe Machine Co., Ltd. (Sihe); and (5) Zhejiang Zhaofeng Mechanical and Electronic Co., Ltd. (Zhaofeng). Finally, the Department also received a timely request for an antidumping duty administrative review from the interested party, as defined by section 771(9)(A) of the Act, as amended, Dana Off Highway Products, LLC, for the company Timken de Mexico S.A. de C.V. (Timken Mexico). On July 31, 2012, the Department published a notice of initiation ² of administrative review with respect to these eight companies.³

¹ See Antidumping or Countervailing Duty Order, Finding, or Suspended Investigation; Opportunity To Request Administrative Review, 77 FR 32528 (June 1, 2012).

² See Initiation of Antidumping and Countervailing Duty Administrative Reviews and Request for Revocation in Part, 77 FR 45338, 45340 (July 31, 2012) (Initiation Notice).

³ The Department conducts reviews of producers/exporters, not factories of producers/exporters in isolation. See 19 CFR 351.213(b)(1). Therefore, we initiated a review on Shanghai General Bearing (SGB), the entity which we believed to be SGBN's parent company. See Initiation Notice, 77 FR at 45340.

In September 2012, we received comments ⁴ from Shanghai General Bearing Co., Ltd. (SGBC), a PRC producer/exporter revoked from the antidumping duty order on TRBs,⁵ requesting that the Department rescind the review with respect to SGB because it was simply a division of SGBC (and thus entitled to SGBC's revocation). In this same month, the petitioner requested that the Department conduct a successor-in-interest analysis to determine if SGBN is in fact entitled to SGBC's revocation because the petitioner claimed that there existed questions regarding when and how SGBN came into existence.

⁴ For a full discussion of parties' comments on the question of SGBN, see the “Decision Memorandum for the Rescission, in Part, of Antidumping Duty Administrative Review of Tapered Roller Bearings and Parts Thereof, Finished and Unfinished from the People's Republic of China,” (SGBC Final Rescission Memo) from The Team, to Christian Marsh, Deputy Assistant Secretary for Antidumping and Countervailing Duty Operations, dated concurrently with this notice.

⁵ See Tapered Roller Bearings and Parts Thereof, Finished and Unfinished, From the People's Republic of China; Final Results of Antidumping Duty Administrative Review and Revocation in Part of Antidumping Duty Order, 62 FR 6189, 6214 (Feb. 11, 1997) (SGBC Revocation FR).

In October 2012, we received arguments from SGBC and the petitioner as to the appropriate disposition of the review for SGB and SGBN. Also in October 2012, Kaiyuan withdrew its request for an administrative review.

On March 25, 2013, we notified parties of our intent to rescind the review for SGB/SGBN and provided parties an opportunity to comment on this preliminary rescission.⁶ In April 2013, we received comments from the petitioner and SGBC.

⁶ See the memorandum to James Maeder, Director, Office 2, AD/CVD Operations, from Blaine Wiltse, Senior Analyst, Office 2, AD/CVD Operations, entitled, “2011-2012 Administrative Review of Tapered Roller Bearings and Parts Thereof, Finished and Unfinished from the People's Republic of China: Intent to Rescind Administrative Review,” dated March 25, 2013, at 3.

Rescission, In Part

Pursuant to 19 CFR 351.213(d)(1), the Secretary will rescind an administrative review, in whole or in part, if a party that requested the review withdraws the request within 90 days of the date of publication of notice of initiation of the requested review. Kaiyuan's request was submitted within the 90-day period and, thus, is timely. Because Kaiyuan previously established its entitlement to a separate rate that was in effect at the initiation of this administrative review, Kaiyuan's withdrawal of request for an antidumping duty administrative review was timely, and no other party requested a review of this company, we are rescinding this administrative review with respect to Kaiyuan.

Regarding SGB, in 1997, the Department revoked the antidumping duty order on TRBs from the PRC with respect to merchandise produced and exported by SGBC. See SGBC Revocation FR. After receiving and analyzing extensive comments from the petitioner and SGBC, we find that SGBN is merely a factory established and owned by SGBC and, accordingly, there is no basis to conduct a review for SGBN.⁷ Therefore, the Department is also rescinding this administrative review with respect to SGB.

⁷ See SGBC Final Rescission Memo, at 4.

We are not rescinding the review for CPZ/SKF, Dana Heavy Axle, NGBC, Sihe, Timken Mexico, or Zhaofeng.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties. See 19 CFR 351.402(f)(3).

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: June 5, 2013.
Christian Marsh,
Deputy Assistant Secretary for Antidumping and Countervailing Duty Operations.

[FR Doc. 2013-13870 Filed 6-10-13; 8:45 am]

BILLING CODE 3510-DS-P